DEPARTMENT OF HEALTH AND HUMAN SERVICES

Health Resources and Services Administration

National Advisory Council on Nurse Education and Practice; Notice of Meeting

In accordance with section 10(a)(2) of the Federal Advisory Committee Act (Pub. L. 92-463), notice is hereby given of the following meeting:

Name: National Advisory Council on Nurse Education and Practice (NACNEP).

Dates and Times: January 31, 2013, 9:30 a.m.-12:30 p.m. Eastern Standard Time.

Place: Conference Call Format.

SUPPLEMENTARY INFORMATION:

Status: This conference call meeting will be open to the public.

Purpose: The purpose of this meeting is to identify the key challenges facing nursing workforce development to respond to the Affordable Care Act and health care system redesign, and to formulate policy recommendations for Congress and the Secretary to ensure the nursing workforce is ready to meet these challenges. The objectives of the meeting are to: (1) Articulate the key challenges facing nursing workforce development in meeting the health care needs of the nation; (2) develop goals and priorities for Council action to address these challenges; and (3) develop recommendations on the activities, initiatives, and partnerships that are critical to advancing 21st century interprofessional education and practice models needed to promote the health of the public. This meeting will form the basis for NACNEP's mandated Thirteenth Annual Report to the Secretary of Health and Human Services and Congress. The meeting will include a panel presentation and discussion focused around the purpose and objectives of this meeting.

Agenda: The Agenda will be available on the NACNEP Web site, noted below, one day prior to the meeting. Agenda items are subject to change as priorities dictate.

FOR FURTHER INFORMATION CONTACT: Further information regarding NACNEP including the roster of members, Reports to Congress, and minutes from previous meetings are available at the following Web site: http://www.hrsa.gov/advisorycommittees/bhpradvisory/nacnep/index.html.

Members of the public and interested parties may request to participate in the conference call by contacting the Committee Management Specialist, Jeanne Brown, to obtain information on the conference phone line. Access is by invitation only and will be granted on a first come, first served basis. Space is limited.

For additional information regarding NACNEP, please contact Jeanne Brown, Committee Management Specialist, National Advisory Council on Nurse Education and Practice, Parklawn Building, Room 9-61, 5600 Fishers Lane, Rockville, Maryland 20857; email jbrown@hrsa.gov; telephone (301) 443-5688.

Dated: January 4, 2013.
Bahar Niakan,
Director, Division of Policy Review and Coordination.

[FR Doc. 2013-00356 Filed 1-9-13; 8:45 am]

BILLING CODE 4165-15-P